DEPARTMENT OF COMMERCE

Foreign-Trade Zones Board

[S-134-2015]

Foreign-Trade Zone 142—Salem/Millville, New Jersey; Application for Subzone; Nine West Holdings, Inc.; West Deptford, New Jersey

An application has been submitted to the Foreign-Trade Zones (FTZ) Board by the South Jersey Port Corporation, grantee of FTZ 142, requesting subzone status for the facilities of Nine West Holdings, Inc., located in West Deptford, New Jersey. The application was submitted pursuant to the provisions of the Foreign-Trade Zones Act, as amended (19 U.S.C. 81a-81u), and the regulations of the FTZ Board (15 CFR part 400). It was formally docketed on October 14, 2015.

The proposed subzone would consist of the following sites: Site 1 (27.18 acres) 1245 Forest Parkway West, West Deptford; and, Site 2 (33.28 acres) 1250 Parkway West, West Deptford. The proposed subzone would be subject to the existing activation limit of FTZ 142. No authorization for production activity has been requested at this time.

In accordance with the FTZ Board's regulations, Kathleen Boyce of the FTZ Staff is designated examiner to review the application and make recommendations to the Executive Secretary.

Public comment is invited from interested parties. Submissions shall be addressed to the FTZ Board's Executive Secretary at the address below. The closing period for their receipt is November 30, 2015. Rebuttal comments in response to material submitted during the foregoing period may be submitted during the subsequent 15-day period to December 14, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: October 14, 2015.
Andrew McGilvray,
Executive Secretary.

[FR Doc. 2015-26632 Filed 10-19-15; 8:45 am]

BILLING CODE 3510-DS-P